DEPARTMENT OF HEALTH AND HUMAN SERVICES

Food and Drug Administration

21 CFR Part 520

Oral Dosage Form New Animal Drugs; Levamisole Powder for Oral Solution; Correction

AGENCY: Food and Drug Administration, HHS.

ACTION: Correcting amendments.

SUMMARY: The Food and Drug Administration (FDA) is correcting a document that amended the animal drug regulations to reflect approval of a supplemental new animal drug application (NADA) that appeared in the Federal Register of March 2, 2004 (69 FR 9753). FDA is correcting the formatting of a citation of approved conditions of use for levamisole powder for oral solution in cattle. This correction is being made so the regulations accurately cite approved conditions of use of this animal drug product.

DATES: This rule is effective June 17, 2004.

FOR FURTHER INFORMATION CONTACT: George K. Haibel, Center for Veterinary Medicine (HFV-6), Food and Drug Administration, 7519 Standish Pl., Rockville, MD 20855, 301-827-4567, e-mail: george.haibel@fda.gov.

SUPPLEMENTARY INFORMATION: For the reasons set forth in the preamble, FDA is correcting part 520 to read as follows:

List of Subjects in 21 CFR Part 520

Animal drugs.

Therefore, under the Federal Food, Drug, and Cosmetic Act and under the authority delegated to the Commissioner of Food and Drugs and redelegated to the Center for Veterinary Medicine, 21 CFR part 520 is corrected by making the following amendment:

PART 520—ORAL DOSAGE FORM NEW ANIMAL DRUGS

1. The authority citation for 21 CFR part 520 continues to read as follows:

Authority: 21 U.S.C. 360b.

§ 520.1242a [Corrected]

2. In § 520.1242a, paragraph (b)(2), remove the reference “(e)(1)(ii)(a)” and add in its place “(e)(1)(ii)(A)”.

Dated: June 4, 2004.
Stephen F. Sundlof,
Director, Center for Veterinary Medicine.

[FR Doc. 04-13603 Filed 6-16-04; 8:45 am]

BILLING CODE 4160-01-S